DEPARTMENT OF ENERGY

Federal Energy Regulatory Commission

[Docket No. EC04-2-000, et al.]

GWF Energy LLC, et al.; Electric Rate and Corporate Filings

October 14, 2003.

The following filings have been made with the Commission. The filings are listed in ascending order within each docket classification.

1. GWF Energy LLC

[Docket No. EC04-2-000]

Take notice that on October 3, 2003, GWF Energy LLC (GWF) tendered for filing an application under Section 203 of the Federal Power Act for approval of an intra-corporate reorganization. GWF requests Commission approval on an expedited basis and no later than November 1, 2003.

Comment Date: October 20, 2003.

2. MSW Merger LLC, United American Energy Corp., Heracles Power Partners, LLC, Atlas Energy, LLC

[Docket No. EC04-3-000]

Take notice that on October 3, 2003, MSW Merger LLC, as a proposed parent of United American Energy Corp. (UAE Corp.), Heracles Power Partners, LLC (Heracles), and Atlas Energy, LLC (Atlas) (jointly, the Applicants) filed with the Federal Energy Regulatory Commission an application pursuant to Section 203 of the Federal Power Act for authorization of a disposition of jurisdictional facilities whereby (1) UAE Corp. will transfer to Heracles all of its interests in the entities which hold the general and limited partnership interests in UAE Mecklenburg Cogeneration LP, which owns an approximately 132 megawatt (MW) coal-fired cogeneration facility located in Clarksville, VA, and (2) UAE Corp. will transfer to Atlas of all of its indirect interests in (a) UAE Lowell Power LLC, which owns an approximately 82 MW gas-fired cogeneration facility located in Lowell, MA, and (b) Lowell Cogeneration Company Limited Partnership, which owns an approximately 29 MW gas-fired cogeneration facility located in Lowell, MA. Applicants state that they request privileged treatment for certain exhibits pursuant to 18 CFR 33.9 and 388.112, Applicants also request that the Commission approve this transfer on an expedited basis and no later than November 15, 2003.

Comment Date: October 24, 2003.

3. United American Energy Holdings Corp., United American Energy Corp., MSW Merger LLC

[Docket No. EC04-4-000]

Take notice that on October 3, 2003 United American Energy Holdings Corp. (UAE Holdings), United American Energy Corp., and MSW Merger LLC (jointly, the Applicants) filed with the Federal Energy Regulatory Commission an application pursuant to Section 203 of the Federal Power Act for authorization of a disposition of jurisdictional facilities whereby the Applicants would affect a change in control over the UAE Holdings through a merger.

The Applicants state that they are requesting confidential treatment pursuant to 18 CFR 388.112 for Exhibits I (the written instruments associated with the proposed transfer) and M (wholesale power sales contracts). The Applicants request that the Commission approve this transfer on an expedited basis and no later than November 15, 2003.

Comment Date: October 23, 2003.

4. PPL Martins Creek, LLC

[Docket No. EG01-127-000]

Take notice that on October 3, 2003, as supplemented on October 6, 2003, PPL Martins Creek, LLC tendered for filing an amendment to its Amended Application for Redetermination of Status as an Exempt Wholesale Generator filed on August 8, 2003.

PPL Martins Creek states it has served copies of its amendment on the parties listed on the Commission's official service list for this proceeding and on the Pennsylvania Public Utility Commission and the Securities and Exchange Commission.

Comment Date: November 4, 2003.

5. California Independent System Operator Corporation

[Docket No. ER01-889-015]

Take notice that on October 3, 2003, the California Independent System Operator Corporation (ISO), submitted a filing in compliance with the Commission's November 25, 2002 “Order Setting Issues for Hearing, Denying Rehearing, Clarifying Creditworthiness Requirements, and Accepting in Part Compliance Filing,” 101 FERC ¶ 61,241. ISO states that it has also served copies of this filing upon all entities that are on the official service list for the docket.

Comment Date: October 24, 2003.

6. Entergy Services, Inc.

[Docket Nos. ER01-1530-001 and ER02-1287-001]

Take notice that on February 28, 2003, Entergy Services, Inc., on behalf of Entergy Arkansas, Inc., submitted for filing an amendment to the informational filings originally submitted on March 13, 2001, in Docket No. ER01-1530-000, and on March 8, 2002, in Docket No. ER02-1287-000.

Comment Date: October 17, 2003.

7. Carolina Power & Light Company, Florida Power Corporation

[Docket Nos. ER01-1807-014 and ER01-2020-011]

Take notice that on October 3, 2003, Carolina Power & Light Company and Florida Power Corporation tendered for filing with the Commission, modifications to their Open Access Transmission Tariffs, Third Revised Volume No. 3 and Second Revised Volume No. 6, respectively, in compliance with the Commission's September 12, 2003 Order, 104 FERC ¶ 61,276 (2003).

Comment Date: October 24, 2003.

8. American Electric Power Service Corporation, Indiana Michigan Power Company

[Docket Nos. ER03-400-003 and ER03-403-005]

Take notice that on October 8, 2003, American Electric Power Service Corporation (American Electric) submitted for filing an Interconnection and Operation Agreement between Indiana Michigan Power Company (Indiana Michigan) and South Shore Power, L.L.C., in compliance with the Commission's September 9, 2003 Order on Compliance Filings and Rehearing, 104 FERC ¶ 61,243. American Electric states that the agreement is pursuant to the AEP Companies' Open Access Transmission Service Tariff (OATT) that has been designated as the Operating Companies of the American Electric Power System FERC Electric Tariff, Third Revised Volume No. 6. Indiana Michigan requests an effective date of September 22, 2003.

American Electric states that copies of the filing have been served upon South Shore Power, L.L.C. and upon the Indiana Utility Regulatory Commission and Michigan Public Service Commission.

Comment Date: October 29, 2003.

9. New York Independent System Operator Inc.

[Docket No. ER03-836-002]

Take notice that on October 8, 2003, New York Independent System Operator Inc. 9NYISO) tendered for filing a 10-Minute Non-Synchronous Reserve Market Report (Report). The Report is in response to Commission's July 1, 2003 Order Conditionally Accepting Proposed Tariff Revisions that was issued in Docket No. ER03-836-000.

Comment Date: October 29, 2003.

10. New England ISO, Exelon Framingham LLC, Exelon Mystic LLC, Exelon New Boston LLC, Exelon West Medway, Devon Power Company, et al.

[Docket Nos. ER03-959-002 and ER03-563-023]

Take notice that on October 3, 2003, ISO New England Inc. (ISO) submitted a Compliance Filing in the above-captioned proceeding as directed by the Commission in its September 23, 2003 Order on Request for Clarification and Accepting Initial Bid Cost Inputs Information for Filing, 104 FERC ¶ 61,312. The ISO states that copies of the filing have been served on all parties to the above-captioned proceeding.

Comment Date: October 24, 2003.

11. PJM Interconnection, L.L.C.

[Docket No. ER03-1101-001]

Take notice that on October 7, 2003, PJM Interconnection, L.L.C. (PJM) in compliance with the Commission's September 22, 2003 Order, 104 FERC ¶ 61,309, filed revisions to PJM's credit policy, as set forth in Attachment Q to the PJM Open Access Transmission Tariff, to reduce the “virtual bid screening” multiplier from four days to two days, clarify the calculation of the nodal reference price, and modify and clarify the time when additional financial security becomes effective. PJM states that the filing also explains PJM's need to retain certain provisions, as required by the September 22 Order.

PJM states that the compliance tariff sheets have an effective date of September 20, 2003, as established by the September 22 Order.

PJM states that copies of this filing have been served on all PJM members and utility regulatory commissions in the PJM region and on all parties listed on the official service list compiled by the Secretary in this proceeding.

Comment Date: October 28, 2003.

12. NewCorp Resources Electric Cooperative, Inc.

[Docket No. ER03-1116-002]

Take notice that on October 3, 2003, NewCorp Resources Electric Cooperative, Inc. (NewCorp) submitted an amendment to their September 29, 2003 compliance filing in Docket No. ER03-1116-001. NewCorp states that they submitted a signed verification affidavit that was omitted in their filing on September 29, 2003. NewCorp also states that the signature pages of the two agreements submitted with the September 29, 2003 filing were not signed and the executed signature pages are being submitted as replacements for the sheets filed on September 29, 2003.

Comment Date: October 24, 2003.

13. Arizona Public Service Company

[Docket No. ER03-1310-001]

Take notice that on October 6, 2003, Arizona Public Service Company (APS) tendered for filing a revised Notice of Cancellation of the Wholesale Power Agreement (Agreement) between APS and Southern California Edison Company designated as FERC Rate Schedule No. 120, to allow a three-month extension in the term of the Agreement that was scheduled to terminate on December 31, 2003.

APS states that copies of this filing have been served on Southern California Edison, the California Public Utilities Commission, and the Arizona Corporation Commission.

Comment Date: October 27, 2003.

14. New York State Electric & Gas Corporation

[Docket Nos. ER04-9-000]

Take notice that on October 2, 2003, New York State Electric & Gas Corporation (NYSEG) tendered for filing with the Federal Energy Regulatory Commission an executed Interconnection Agreement between NYSEG and Seneca Energy II, LLC (Seneca) that sets forth the terms and conditions governing the interconnection between Seneca's Ontario County Landfill generating facility in Ontario County, New York and NYSEG's transmission system.

NYSEG states that copies of this filing have been served upon Seneca, the New York State Public Service Commission, and the New York Independent System Operator, Inc.

Comment Date: October 23, 2003.

15. The Connecticut Light and Power Company

[Docket No. ER04-10-000]

Take notice that on October 2, 2003, Northeast Utilities Service Company (NUSCO), on behalf of its affiliate The Connecticut Light and Power Company (CL&P), filed the executed Interconnection Agreement between CL&P and Hartford Steam Company (HSC), which has been designated as Original Service Agreement No. 100 (the Service Agreement) under Northeast Utilities System Companies' Open Access Transmission Tariff No. 9. The Service Agreement is a new agreement establishing the terms and conditions under which CL&P will provide interconnection service to HSC's 7.5 megawatt electric generating facility located at Hartford Hospital in Hartford, Connecticut.

NUSCO states that a copy of this filing has been sent to HSC and that HSC fully consents to and supports this filing. NUSCO requests an effective date for the Service Agreement of October 3, 2003, and requests any waivers of the Commission's regulations that may be necessary to permit such an effective date.

Comment Date: October 23, 2003.

16. PJM Interconnection, L.L.C.

[Docket No. ER04-11-000]

Take notice that on October 2, 2003, PJM Interconnection, L.L.C. (PJM), submitted for filing an interconnection service agreement (ISA) among PJM, Conectiv Energy Supply, Inc. and Delmarva Power & Light Company d/b/a Conectiv Power Delivery designated as Original Service Agreement No. 959, FERC Electric Tariff, Sixth Revised Volume No. 1. PJM requests a waiver of the Commission's 60-day notice requirement to permit a September 2, 2003 effective date for the ISA.

PJM states that copies of this filing were served upon the parties to the agreements and the state regulatory commissions within the PJM region.

Comment Date: October 23, 2003.

17. PJM Interconnection, L.L.C.

[Docket No. ER04-12-000]

Take notice that on October 2, 2003, PJM Interconnection, L.L.C. (PJM), submitted for filing an interconnection service agreement (ISA) among PJM, Conectiv Energy Supply, Inc. and Delmarva Power & Light Company d/b/a Conectiv Power Delivery designated as Original Service Agreement No. 958, FERC Electric Tariff, Sixth Revised Volume No. 1. PJM requests a waiver of the Commission's 60-day notice requirement to permit a September 2, 2003 effective date for the ISA.

Copies of this filing were served upon the parties to the agreements and the state regulatory commissions within the PJM region.

Comment Date: October 23, 2003.

18. Pacific Gas and Electric Company

[Docket No. ER04-13-000]

Take notice that on October 3, 2003, Pacific Gas and Electric Company (PG&E) tendered for filing Generator Special Facilities Agreements (GSFAs) and Generator Interconnection Agreements (GIAs) between PG&E and the following parties: GWF Energy LLC-Henrietta (GWF Henrietta), GWF Energy LLC-Tracy (GWF Tracy), and Duke Energy Moss Landing, LLC (Duke Moss Landing) (collectively, Parties). PG&E has requested certain waivers.

PPG&E states that copies of the filing have been served upon GWF Henrietta, GWF Tracy, Duke Moss Landing, the California Independent System Operator Corporation and the CPUC.

Comment Date: October 24, 2003.

19. The Detroit Edison Company

[Docket No. ER04-14-000]

Take notice that on October 2, 2003, pursuant to Section 205 of the Federal Power Act, 16 U.S.C. § 824(d) (2000), and Sections 35.13 and 35.15 of the Federal Energy Regulatory Commission's regulations, 18 CFR 35.13 and 35.15 (2003), The Detroit Edison Company: (i) filed its stand-alone Ancillary Services Tariff (AST), to become effective on December 1, 2003; and (ii) requested the termination of its current tariff rates for Ancillary Services on file with the Federal Energy Regulatory Commission in Docket No. OA96-78-000, to become effective simultaneously with the December 1, 2003 effective date of the AST.

Comment Date: October 23, 2003.

20. El Paso Electric Company

[Docket No. ER04-15-000]

Take notice that on October 2, 2003, El Paso Electric Company (El Paso) tendered for filing a First Revised Service Agreement with Public Service Company of New Mexico for Firm Transmission Service under El Paso's Open Access Transmission Tariff. EPE seeks an effective date of September 1, 2003.

Comment Date: October 23, 2003.

21. Quonset Point Cogen, L.P.

[Docket No. ER04-16-000]

Take notice that on October 3, 2003, Quonset Point Cogen, L.P. submitted pursuant to Section 35.15 of the Federal Energy Regulatory Commission's regulations, 18 CFR 35.15, a notice canceling Quonset Point Cogen, L.P.'s FERC Rate Schedule No.1. Quonset Point Cogen, L.P. requests that the cancellation be made effective September 23, 2003.

Comment Date: October 24, 2003.

22. Nicor Energy, L.L.C.

[Docket No. ER04-17-000]

Take notice that on October 3, 2003, Nicor Energy, L.L.C., (Nirocr) filed with the Commission pursuant to 18 CFR 35.15 a Notice of Cancellation of Nicor's Market-Based FERC Electric Rate Tariff and all rate schedules and/or service agreements thereunder effective October 1, 2003.

Comment Date: October 24, 2003.

23. New England Power Pool

[Docket No. ER04-18-000]

Take notice that on October 3, 2003, the New England Power Pool (NEPOOL) Participants Committee filed for acceptance materials to permit NEPOOL to expand its membership to include Florida Power & Light Company (FP&L). The Participants Committee requests an October 1, 2003 effective date for commencement of participation in NEPOOL by FP&L.

The Participants Committee states that copies of these materials were sent to the New England state governors and regulatory commissions and the Participants in NEPOOL.

Comment Date: October 24, 2003.

24. New England Power Pool

[Docket No. ER04-19-000]

Take notice that on October 3, 2003, the New England Power Pool (NEPOOL) Participants Committee filed for acceptance materials to (1) permit NEPOOL to expand its membership to include Bank of America, N.A. (BOA), Marquette Energy, L.L.C. (Marquette), and Ridgewood Rhode Island Generation, L.L.C. (Ridgewood); and (2) to terminate the membership of Hess Energy Power & Gas Company, LLC (HEPCO). The Participants Committee requests the following effective dates: August 1, 2003 for the termination of HEPCO; October 1, 2003 for the commencement of participation in NEPOOL by BOA and Marquette; and November 1, 2003 for the commencement of participation in NEPOOL by Ridgewood.

The Participants Committee states that copies of these materials were sent to the New England state governors and regulatory commissions and the Participants in NEPOOL.

Comment Date: October 24, 2003.

25. Florida Power Corporation

[Docket No. ER04-20-000]

Take notice that on October 3, 2003, Florida Power Corporation (FPC) re-filed the executed Shady Hills Facility Parallel Operation Agreement between FPC and Florida Power & Light Company which was previously accepted by the Commission's letter order issued May 8, 2003 in Docket No. ER03-620-000. FPC is requesting an effective date of December 18, 2002 for this Rate Schedule.

FPC states that a copy of the filing was served upon the Florida Public Service Commission and the North Carolina Utilities Commission.

Comment Date: October 24, 2003.

26. Maine Public Service Company

[Docket No. ER04-21-000]

Take notice that on October 3, 2003, Maine Public Service Company (MPS) submitted for filing a revised executed Interconnection Agreement Between MPS and WPS New England Generation, Inc. MPS requests an effective date of October 3, 2003 of the filing.

Comment Date: October 24, 2003.

27. Mid-Continent Energy Marketers Association

[Docket No. ER04-22-000]

Take notice that on October 3, 2003, the Mid-Continent Energy Marketers Association (MEMA) tendered for filing with the Federal Energy Regulatory Commission, pursuant to Section 205 of the Federal Power Act, 16 U.S.C. § 824d, and Part 35 of the Commission's regulations, 18 CFR 35, its Capacity and Energy Tariff.

Comment Date: October 24, 2003.

28. Southern California Edison Company

[Docket No. ER04-24-000]

Take notice that on October 6, 2003, Southern California Edison Company (SCE) tendered for filing a Temporary Monitoring System Facilities and Operating Agreement (TMS Agreement) under SCE's Wholesale Distribution Access Tariff (WDAT) between SCE and the Whitewater Hill Wind Partners, LLC (Whitewater). SCE requests that the TMS Agreement become effective on December 5, 2003.

SCE states that copies of this filing were served upon the Public Utilities Commission of the State of California and Whitewater.

Comment Date: October 27, 2003.

29. MidAmerican Energy Company

[Docket No. ER04-25-000]

Take notice that on October 6, 2003, MidAmerican Energy Company (MEC) tendered for filing Notices of Cancellation of (1) Service Agreement No. 2 under FERC Electric Tariff Original Volume No. 7, the November 11, 1987 Full Requirements Power Agreement (FRPA) between MEC and the City of Auburn, Iowa; and (2) FERC Electric Rate Schedule No. 94, the January 24, 1994 Electric Interchange and Interconnection Agreement (EIIA) between MEC and Indianola Municipal Utilities. MEC seeks cancellation of the FRPA effective January 10, 2004 and cancellation of the EIIA effective January 23, 2004.

Comment Date: October 27, 2003.

30. El Paso Electric Company

[Docket No. ER04-26-000]

Take notice that on October 6, 2003, El Paso Electric Company (EPE) tendered for filing revisions to its Open Access Transmission Tariff (OATT), FERC Electric Tariff No. 1, to include rates for Real Power Loss service. EPE seeks an effective date of January 1, 1998 for certain tariff sheets and an effective date of December 6, 2003 for certain other tariff sheets.

Comment Date: October 27, 2003.

31. Western Electricity Coordinating Council

[Docket No. ER04-27-000]

Take notice that on October 7, 2003, the Western Electricity Coordinating Council (WECC) filed with the Commission a Fourth Amendment to the Reliability Criteria Agreement under the WECC's Reliability Management System. WECC states that the Fourth Amendment: (1) Clarifies terminology to reflect WECC's name change and other clarifying terminology changes; (2) defines “Independent System Operator” to clarify the reporting responsibility when such responsibly has been assigned to an Independent System Operator or a Regional Transmission Operator; (3) clarifies the term for assessing certain sanctions; (4) amends the reliability criteria applicable to generators with respect to Power System Stabilizers and Automatic Voltage Regulators; and (5) adds four additional reliability criteria. The WECC requests that the Commission make such amendment effective January 1, 2004.

Comment Date: October 28, 2003.

32. Southern California Edison Company

[Docket No. ER04-28-000]

Take notice, that on October 7, 2003, Southern California Edison Company (SCE) tendered for filing the Mountain View III Project Interconnection Facilities Agreement (Mountain View III Agreement) between SCE and Mountain View Power Partners III, LLC (Mountain View III). SCE states that the purpose of the Mountain View III Agreement is to interconnect the Mountain View III Project to the facilities recently constructed to accommodate the interconnection of the Mountain View I Project. SCE requests that the Agreement become effective on October 8, 2003.

SCE states that copies of this filing were served upon the Public Utilities Commission of the State of California, and Mountain View Power Partners III, LLC.

Comment Date: October 28, 2003.

33. Utility Management Corporation

[Docket No. ER04-30-000]

Take notice that on October 8, 2003, Utility Management Corporation (Utility Management) tendered for filing a Notice of Cancellation of it Market-Based Rate Tariff accepted by the Commission in Docket No. ER96-1144-000.

Comment Date: October 29, 2003.

34. Epic Merchant Energy, L.P.

[Docket No. ER04-31-000]

Take notice that on October 8, 2003, Epic Merchant Energy, L.P., tendered for filing, under Section 205 of the Federal Power Act, a request for authorization to sell electricity at market-based rates under its proposed market-based tariff.

Comment Date: October 29, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00084 Filed 10-21-03; 8:45 am]

BILLING CODE 6717-01-P